DEPARTMENT OF COMMERCE

National Oceanic and Atmospheric Administration

50 CFR Part 622

[Docket No. 140819687-5583-02; RTID 0648-XC734]

Coastal Migratory Pelagic Resources of the Gulf of Mexico and Atlantic Region; 2022-2023 Commercial Trip Limit Reduction for Spanish Mackerel in the Atlantic Southern Zone

AGENCY: National Marine Fisheries Service (NMFS), National Oceanic and Atmospheric Administration (NOAA), Commerce.

ACTION: Temporary rule; trip limit reduction.

SUMMARY: NMFS reduces the commercial trip limit for the Atlantic migratory group of Spanish mackerel in the southern zone of the Atlantic exclusive economic zone (EEZ) to 1,500 lb (680 kg) in round or gutted weight per day. This commercial trip limit reduction is necessary to increase the socioeconomic benefits of the fishery.

DATES: This temporary rule is effective from 6 a.m. eastern time on February 4, 2023, until 12:01 a.m. eastern time on March 1, 2023.

FOR FURTHER INFORMATION CONTACT: Mary Vara, NMFS Southeast Regional Office, telephone: 727-824-5305, or email: mary.vara@noaa.gov.

SUPPLEMENTARY INFORMATION: The fishery for coastal migratory pelagic fish in the Atlantic EEZ includes king mackerel, Spanish mackerel, and cobia on the east coast of Florida, and is managed under the Fishery Management Plan for the Coastal Migratory Pelagic Resources of the Gulf of Mexico and Atlantic Region (FMP). The FMP was prepared by the Gulf of Mexico and South Atlantic Fishery Management Councils and is implemented by NMFS under the authority of the Magnuson-Stevens Fishery Conservation and Management Act (Magnuson-Stevens Act) by regulations at 50 CFR part 622. All weights described for the Atlantic migratory group of Spanish mackerel (Atlantic Spanish mackerel) apply as either round or gutted weight.

For management purposes, the commercial sector of Atlantic Spanish mackerel is divided into northern and southern zones. The southern zone consists of Federal waters off South Carolina, Georgia, and the east coast of Florida, as specified in 50 CFR 622.369(b)(2)(ii). The southern zone boundaries for Atlantic Spanish mackerel extend from the border of North Carolina and South Carolina, which is a line extending in a direction of 135°34′55″ from true north beginning at 33°51′07.9″ N latitude and 78°32′32.6″ W longitude to the intersection point with the outward boundary of the EEZ, to the border of Miami-Dade and Monroe Counties in Florida at 25°20′24″ N latitude.

The southern zone commercial quota for Atlantic Spanish mackerel is 2,667,330 lb (1,209,881 kg). Seasonally variable trip limits are based on an adjusted commercial quota of 2,417,330 lb (1,096,482 kg). The adjusted commercial quota is calculated to allow continued harvest in the southern zone at a set rate for the remainder of the current fishing year, through February 28, 2023, in accordance with 50 CFR 622.385(b)(2).

As specified at 50 CFR 622.385(b)(1)(ii)(B), after 75 percent of the adjusted commercial quota of Atlantic Spanish mackerel for the southern zone is reached or is projected to be reached, Atlantic Spanish mackerel in or from the EEZ in the southern zone may not be possessed on board or landed from a vessel that has been issued a Federal permit for Atlantic Spanish mackerel in amounts exceeding 1,500 lb (680 kg) per day.

NMFS has determined that 75 percent of the adjusted commercial quota for Atlantic Spanish mackerel for the southern zone will be reached by February 4, 2023. Accordingly, the commercial trip limit of 1,500 lb (680 kg) per day applies to Atlantic Spanish mackerel harvested in or from the EEZ in the southern zone effective from 6 a.m. eastern time on February 4, 2023, until 12:01 a.m. eastern time on March 1, 2023, unless NMFS announces a subsequent change through a notification in the Federal Register.

Classification

NMFS issues this action pursuant to section 305(d) of the Magnuson-Stevens Act. This action is required by 50 CFR 622.385(b)(1)(ii)(B), which was issued pursuant to section 304(b) of the Magnuson-Stevens Act, and is exempt from review under Executive Order 12866.

Pursuant to 5 U.S.C. 553(b)(B), there is good cause to waive prior notice and an opportunity for public comment on this action, as notice and comment is unnecessary and contrary to the public interest. Such procedures are unnecessary because the regulations associated with the commercial trip limit for Atlantic Spanish mackerel have already been subject to notice and public comment, and all that remains is to notify the public of the commercial trip limit reduction. Prior notice and opportunity for public comment on this action is contrary to the public interest because of the time required to provide notice and an opportunity for public comment. There is a need to immediately implement the commercial trip limit reduction to increase the socioeconomic benefits of the fishery. The capacity of the fishing fleet allows for rapid harvest of the commercial quota, and any delay in reducing the commercial trip limit could result in the commercial quota being reached. If the commercial quota is reached, NMFS is required to implement further fishery restrictions, thereby limiting the socioeconomic benefits of the fishery.

For the reasons stated earlier, there is good cause under 5 U.S.C. 553(d)(3) to waive the 30-day delay in effectiveness of this action.

Authority: 16 U.S.C. 1801 et seq.

Dated: February 1, 2023.
Ngagne Jafnar Gueye,
Acting Director, Office of Sustainable Fisheries, National Marine Fisheries Service.

[FR Doc. 2023-02439 Filed 2-1-23; 4:15 pm]

BILLING CODE 3510-22-P